ENVIRONMENTAL PROTECTION AGENCY

[FRL-9940-53-ORD; Docket ID No. EPA-HQ-ORD-2013-0357]

Draft Integrated Science Assessment for Sulfur Oxides—Health Criteria

AGENCY: Environmental Protection Agency (EPA).

ACTION: Notice; extension of public comment period.

SUMMARY: The Environmental Protection Agency (EPA) is announcing a 30-day extension of the public comment period for the draft document titled, “External Review Draft Integrated Science Assessment for Sulfur Oxides—Health Criteria” (EPA/600/R-15/066). The original Federal Register notice announcement provides a 60-day public comment period and was published on November 24, 2015. The EPA subsequently received a request to extend this comment period. With the 30-day extension announced in this notice, the comment period ends on February 24, 2016. The draft document was prepared by the National Center for Environmental Assessment (NCEA) within the EPA's Office of Research and Development as part of the review of the primary (health-based) National Ambient Air Quality Standards for sulfur dioxide.

DATES: The public comment period began on November 24, 2015, and ends on February 24, 2016. Comments must be received on or before February 24, 2016.

ADDRESSES: The “External Review Draft Integrated Science Assessment for Sulfur Oxides—Health Criteria” will be available primarily via the Internet on the EPA's Integrated Science Assessment for Sulfur Dioxide (Health Criteria) home page at http://www2.epa.gov/isa/integrated-science-assessment-isa-sulfur-dioxide-health-criteria or the public docket at http://www.regulations.gov, Docket ID: EPA-HQ-ORD-2013-0357. A limited number of CD-ROM copies will be available. Contact Ms. Marieka Boyd by phone: 919-541-0031; fax: 919-541-5078; or email: boyd.marieka@epa.gov to request a CD-ROM, and please provide your name, your mailing address, and the document title, “External Review Draft Integrated Science Assessment for Sulfur Oxides—Health Criteria” to facilitate processing of your request.

FOR FURTHER INFORMATION CONTACT: For technical information, contact Dr. Tom Long, NCEA; telephone: 919-541-1880; facsimile: 919-541-1818; or email: long.tom@epa.gov.

SUPPLEMENTARY INFORMATION: Comments may be submitted electronically via http://www.regulations.gov, by mail, by fax, or by hand delivery/courier. Please follow the detailed instructions provided in the SUPPLEMENTARY INFORMATION section of the Federal Register notice announcing the release of the draft assessment document, published on November 24, 2015 (80 FR 73183).

For information on submitting comments to the docket, please contact the ORD Docket at the EPA's Headquarters Docket Center; telephone: 202-566-1752; fax: 202-566-9744; or email: Docket_ORD@epa.gov.

Dated: December 16, 2015.
Mary A. Ross,
Deputy Director, National Center for Environmental Assessment.

[FR Doc. 2015-32511 Filed 12-23-15; 8:45 am]

BILLING CODE 6560-50-P